DEPARTMENT OF ENERGY

Federal Energy Regulatory Commission

Combined Notice of Filings #1

Take notice that the Commission received the following electric corporate filings:

Docket Numbers: EC22-55-000.

Applicants: Sierra Pacific Power Company, Nevada Power Company.

Description: Sierra Pacific Power Company and Nevada Power Company submits Supplement to Federal Power Act Section 203 Application.

Filed Date: 6/15/22.

Accession Number: 20220615-5010.

Comment Date: 5 p.m. ET 6/27/22.

Take notice that the Commission received the following electric rate filings:

Docket Numbers: ER22-1860-001.

Applicants: Midcontinent Independent System Operator, Inc., Big Rivers Electric Corporation.

Description: Tariff Amendment: Midcontinent Independent System Operator, Inc. submits tariff filing per 35.17(b): 2022-06-15_Amendment of BREC Attachment A to be effective 6/1/2022.

Filed Date: 6/15/22.

Accession Number: 20220615-5141.

Comment Date: 5 p.m. ET 7/6/22.

Docket Numbers: ER22-2107-000.

Applicants: National Grid Renewables Development, LLC.

Description: Petition for Limited Waiver, etc. of National Grid Renewables Development, LLC.

Filed Date: 6/13/22.

Accession Number: 20220613-5173.

Comment Date: 5 p.m. ET 7/5/22.

Docket Numbers: ER22-2113-000.

Applicants: EDP Renewables North America LLC.

Description: EDP Renewables North America LLC Requests a One-Time, Limited Waiver of Tariff Provisions, with Expedited Consideration, Under.

Filed Date: 6/10/22.

Accession Number: 20220610-5252.

Comment Date: 5 p.m. ET 6/21/22.

Docket Numbers: ER22-2117-000.

Applicants: Midcontinent Independent System Operator, Inc.

Description: § 205(d) Rate Filing: 2022-06-15_SA 3454 Entergy Arkansas-Flat Fork Solar 1st Rev GIA (J907 J1434) to be effective 6/2/2022.

Filed Date: 6/15/22.

Accession Number: 20220615-5029.

Comment Date: 5 p.m. ET 7/6/22.

Docket Numbers: ER22-2118-000.

Applicants: Northern Indiana Public Service Company LLC.

Description: § 205(d) Rate Filing: Amendment to NIPSCO-AEP Indiana Dark Fiber Lease to be effective 3/21/2022.

Filed Date: 6/15/22.

Accession Number: 20220615-5116.

Comment Date: 5 p.m. ET 7/6/22.

Docket Numbers: ER22-2119-000.

Applicants: Macquarie Energy LLC.

Description: § 205(d) Rate Filing: Revised Market-Based Rate Tariff to be effective 6/16/2022.

Filed Date: 6/15/22.

Accession Number: 20220615-5131.

Comment Date: 5 p.m. ET 7/6/22.

Docket Numbers: ER22-2120-000.

Applicants: Tri-State Generation and Transmission Association, Inc.

Description: § 205(d) Rate Filing: Amendment to Rate Schedule FERC No. 254 to be effective 6/16/2022.

Filed Date: 6/15/22.

Accession Number: 20220615-5136.

Comment Date: 5 p.m. ET 7/6/22.

Docket Numbers: ER22-2121-000.

Applicants: Macquarie Energy Trading LLC.

Description: § 205(d) Rate Filing: Revised Market-Based Rate Tariff to be effective 6/16/2022.

Filed Date: 6/15/22.

Accession Number: 20220615-5140.

Comment Date: 5 p.m. ET 7/6/22.

Docket Numbers: ER22-2122-000.

Applicants: NGP Blue Mountain I LLC.

Description: Compliance filing: Revised Market-Based Rate Tariff and New eTariff Baseline Filing to be effective 6/16/2022.

Filed Date: 6/15/22.

Accession Number: 20220615-5145.

Comment Date: 5 p.m. ET 7/6/22.

Docket Numbers: ER22-2123-000.

Applicants: Patua Acquisition Company, LLC.

Description: § 205(d) Rate Filing: Revised Market-Based Rate Tariff to be effective 6/16/2022.

Filed Date: 6/15/22.

Accession Number: 20220615-5149.

Comment Date: 5 p.m. ET 7/6/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 15, 2022.
Debbie-Anne A. Reese,
Deputy Secretary.

[FR Doc. 2022-13334 Filed 6-21-22; 8:45 am]

BILLING CODE 6717-01-P